DEPARTMENT OF HEALTH AND HUMAN SERVICES

Centers for Disease Control and Prevention

[30Day-08-0020]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-6974. Written comments should be received within 30 days of this notice.

Proposed Project

National Coal Workers' X-ray Surveillance Program (CWXSP)—Reinstatement with change—The National Institute for Occupational Safety and Health (NIOSH), Centers for Disease Control and Prevention (CDC).

Background and Brief Description

The CWXSP is a federally mandated program under the Federal Mine Safety and Health Act of 1977, Public Law-95-164. The Act provides the regulatory authority for the administration of the CWXSP, a surveillance program to protect the health and safety of underground coal miners. This Program requires the gathering of demographic and logistical information from coal mine operators, participating miners, participating x-ray facilities, and participating physicians. The Appalachian Laboratory for Occupational Safety and Health (ALOSH), located in Morgantown, WV, is charged with administration of this Program. Over the past two years, participation in the CWXSP has increased, which is reflected in this submission for renewal. Physicians taking the B Reader Examination are asked to complete a registration form. There are approximately 300 physicians each year taking the certification exam.

Miners participating in the CWXSP must fill out the Miner Identification Document. Mine operators are required to file a Mine X-ray Plan with NIOSH approximately every 3 years. Approximately 200 mine operators have X-ray plans that are due for renewal each year. An X-ray facility that applies to be a NIOSH-approved facility for providing miners X-rays must complete an approval packet. There are approximately 25 X-ray facilities each year seeking approval into the CWXSP Program. There will be no costs to study participants. The total estimated annualized burden hours are 2330.

Estimated Annualized Burden

Respondents | Number of respondents | Number of responses/respondent | Average burden/response (in hrs.)
Physicians/interpretations | 10,000 | 1 | 3/60
Physicians/certification | 300 | 1 | 10/60
Miners | 5000 | 1 | 20/60
Mine operators | 200 | 1 | 30/60
X-ray facilities | 25 | 1 | 30/60

Dated: December 6, 2007.
Maryam I. Daneshvar,
Acting Reports Clearance Officer, Centers for Disease Control and Prevention.

[FR Doc. E7-24137 Filed 12-12-07; 8:45 am]

BILLING CODE 4163-18-P